DEPARTMENT OF DEFENSE

Office of the Secretary

Defense Advisory Committee for Strategic Environmental Research and Development Program (SERDP) Scientific Advisory Board (SAB); Notice of Federal Advisory Committee Meeting

AGENCY: Under Secretary of Defense for Acquisition and Sustainment (USD(A&S)), Department of Defense (DoD).

ACTION: Notice of Federal advisory committee meeting.

SUMMARY: The DoD is publishing this notice to announce that the following Federal Advisory Committee meeting of the SERDP SAB will take place.

DATES: SERDP SAB will hold a meeting open to the public. Thursday, March 21, 2024 from 9:00 a.m. to 12:30 p.m. (EST).

ADDRESSES: The meeting will be accessible by videoconference. Information for accessing the videoconference is provided in SUPPLEMENTARY INFORMATION, “Meeting Accessibility”.

FOR FURTHER INFORMATION CONTACT: Dr. Kimberly Spangler, 703-571-2477 (voice), kimberly.y.spangler.civ@mail.mil (email). Mailing address is SERDP Office, 3500 Defense Pentagon, RM 5C646, Washington, DC 20301-3500. Website: https://serdp-estcp.org/about. The most up-to-date changes to the meeting agenda can be found on the website.

SUPPLEMENTARY INFORMATION: Due to circumstances beyond the control of the Designated Federal Officer and the Department of Defense, the Strategic Environmental Research and Development Program Scientific Advisory Board was unable to provide public notification required by 41 CFR 102-3.150(a) concerning its March 21, 2024 meeting. Accordingly, the Advisory Committee Management Officer for the Department of Defense, pursuant to 41 CFR 102-3.150(b), waives the 15-calendar day notification requirement.

This meeting is being held under the provisions of chapter 10 of title 5 United States Code (U.S.C.) (commonly known as the “Federal Advisory Committee Act (FACA)”), 5 U.S.C. 552b (commonly known as the “Government in the Sunshine Act”), and 41 CFR 102-3.140 and 102-3.150.

Availability of Materials for the Meeting: Additional information, including the agenda or any updates to the agenda, is available on https://serdp-estcp.org/about.

Purpose of the Meeting: The purpose of the meeting is for the SERDP SAB to make recommendations regarding technologies, research, projects, programs, activities, and, if appropriate, funding within the scope of SERDP Fiscal Year (FY) 2024.

Agenda: Thursday, March 21, 2024, from 9:00 a.m. to 12:30 p.m.—Convene, Introductions, Program Overview Briefings, Project Briefings and Voting on FY 2024 Recommendations, Meet the SAB, Public Comment Period, and Adjourn.

Public Comment Period: Just before the adjourning of each day the chair of the board will ask those in the room and in the virtual meeting if there are any oral public comments. If there are, the chair will call on each person to speak. The individual will have up to 5 minutes to address the board. After oral comments are given any written comments will be read by the Designated Federal Officer (DFO).

Meeting Accessibility: Pursuant to 5 U.S.C. 1009(a) and 41 CFR 102-3.140 through 102-3.165, this meeting is open to the public. The meeting will be held via videoconference. If you wish to attend by videoconference you must register at this link: https://www.zoomgov.com/meeting/register/vJIsdeyhpjwpHl9VKp2r_gY9nUrFJsWzMxs.

Once registered, the web address and audio number will be provided. For purposes of transparency and attendance reporting you will be required to use your actual first name and last name as your username.

Special Accommodations: Individuals requiring special accommodations to access the public meeting should contact Dr. Kimberly Spangler at 703-571-2477 (voice) no later than Friday, March 15, 2024 at 5:00 p.m. EST so that appropriate arrangements can be made.

Written Statements: Pursuant to 41 CFR 102-3.140 and 5 U.S.C. 1009(a)(3), interested persons may submit a written statement to the SERDP SAB. Individuals submitting a statement must submit their statement no later than 5:00 p.m. EST, Wednesday, March 20, 2024 to kimberly.y.spangler.civ@mail.mil (email) or to 703-571-2477 (voice). If a statement pertaining to a specific topic being discussed at the planned meeting is not received by Wednesday, March 20, 2024, prior to the meeting, then it may not be provided to, or considered by, the Committee during the March 21, 2024 meeting. The DFO, Dr. Kimberly Spangler will review all timely submissions with the SERDP SAB Chair and ensure such submissions are provided to the members of the SERDP SAB before the meeting.

Dated: February 29, 2024.
Aaron T. Siegel,
Alternate OSD Federal Register Liaison Officer, Department of Defense.

[FR Doc. 2024-05244 Filed 3-11-24; 8:45 am]

BILLING CODE 6001-FR-P